FEDERAL COMMUNICATIONS COMMISSION

[WC Docket No. 06-122; DA 11-1751]

Revised 2011 Annual Telecommunications Reporting Worksheet (FCC Form 499-A) and Accompanying Instructions

AGENCY: Federal Communications Commission.

ACTION: Notice.

SUMMARY: In this document, the Wireline Competition Bureau released the revised Telecommunications Reporting Worksheet (FCC Form 499-A) and accompanying instructions that have been approved by the Office of Management and Budget.

DATES: Non-interconnected VoIP filers subject to TRS contribution obligations must submit the FCC Form 499-A to register with the Commission by December 31, 2011.

FOR FURTHER INFORMATION CONTACT: Ernesto Beckford, Wireline Competition Bureau, Telecommunications Access Policy Division, at (202) 418-7400 or via the Internet at Ernesto.Beckford@fcc.gov.

SUPPLEMENTARY INFORMATION: On October 14, 2011, the Office of Management and Budget approved revisions to the Telecommunications Reporting Worksheet, FCC Form 499-A (the Form) and accompanying instructions. The revisions to the Form and instructions were made in accordance with the Commission's recent order implementing section 103(b) of the Twenty-First Century Communications and Video Accessibility Act of 2010 (CVAA). This section requires that both interconnected and non-interconnected voice over Internet protocol (VoIP) service providers participate in and contribute to the Telecommunications Relay Services Fund (TRS Fund).

The revisions to the Form and accompanying instructions include the following:

• Adding a definition for non-interconnected VoIP service providers.

• Adding a filing requirement for non-interconnected VoIP service providers with interstate end-user revenues subject to TRS Fund contributions. Such providers must file the Form to register with the Commission by December 31, 2011. If a non-interconnected VoIP provider has already registered with the Commission (e.g., because it has other lines of business subject to the Commission's registration and reporting requirements), it need not refile the Form.

• Requiring non-interconnected VoIP service providers with interstate end-user revenues subject to TRS Fund contributions to designate an agent for service of process.

• Updating Form instruction references (for Lines 404.1 to 404.3, and 414.1 to 414.2) in accordance with the CVAA and Commission order.

• Revising the contact information for the TRS Administrator.

In compliance with 47 CFR 1.47, 52.17(b), 52.32(b), 54.711(a), and 64.604(c)(5)(iii)(B), the revised FCC Form 499-A for 2011 and the FCC Form 499-A Instructions can be found at: http://transition.fcc.gov/Forms/Form499-A/499a2-2011.pdf.

People with Disabilities: To request materials in accessible formats for people with disabilities (Braille, large print, electronic files, audio format), send an email to fcc504@fcc.gov or call the Consumer & Governmental Affairs Bureau at (202) 418-0530 (voice), (202) 418-0432 (tty).

For further information, please contact Ernesto Beckford, Telecommunications Access Policy Division, Wireline Competition Bureau at (202) 418-7400 or TTY (202) 418-0484.

Federal Communications Commission.
Vickie Robinson,
Telecommunications Access Policy Division, Deputy Chief.

[FR Doc. 2011-28972 Filed 11-8-11; 8:45 am]

BILLING CODE 6712-01-P